DEPARTMENT OF TRANSPORTATION

Federal Aviation Administration

14 CFR Part 71

[Docket No. FAA-2009-0253; Airspace Docket No. 09-ANM-2]

Modification of Class E Airspace; Twin Falls, ID

AGENCY: Federal Aviation Administration (FAA), DOT.

ACTION: Final rule.

SUMMARY: This action will modify Class E airspace at Twin Falls, ID. Additional controlled airspace is necessary to accommodate aircraft using a new VHF Omni-Directional Radio Range (VOR) Standard Instrument Approach Procedure (SIAP) at Twin Falls Joslin Field—Magic Valley Regional, Twin Falls, ID. This will improve the safety of Instrument Flight Rules (IFR) aircraft executing the new VOR SIAP at Twin Falls Joslin Field—Magic Valley Regional, Twin Falls, ID.

DATES: Effective Date: 0901 UTC, October 22, 2009. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA, 98057; telephone (425) 203-4537.

SUPPLEMENTARY INFORMATION:

History

On April 15, 2009, the FAA published in the Federal Register a notice of proposed rulemaking to establish additional controlled airspace at Twin Falls, ID (74 FR 17441). Interested parties were invited to participate in this rulemaking effort by submitting written comments on the proposal to the FAA. No comments were received.

Class E airspace designations are published in paragraph 6005 of FAA Order 7400.9S signed October 3, 2008, and effective October 31, 2008, which is incorporated by reference in 14 CFR part 71.1. The Class E airspace designations listed in this document will be published subsequently in that Order.

The Rule

This action amends Title 14 Code of Federal Regulations (14 CFR) part 71 by amending the Class E airspace at Twin Falls, ID. Additional controlled airspace is necessary to accommodate IFR aircraft executing a new VOR approach procedure at Twin Falls Joslin Field—Magic Valley Regional, Twin Falls, ID.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, Section 106, discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Twin Falls Joslin Field—Magic Valley Regional, Twin Falls, ID.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9S, Airspace Designations and Reporting Points, signed October 3, 2008, and effective October 31, 2008 is amended as follows:

Paragraph 6005. Class E airspace areas extending upward from 700 feet or more above the surface of the earth.

* * * * *

ANM ID E5 Twin Falls, ID [Modified]

Twin Falls Joslin Field—Magic Valley Regional, ID

(Lat. 42°28′55″ N., long. 114°29′16″ W.)

Twin Falls VORTAC

(Lat. 42°28′47″ N., long. 114°29′22″ W.)

That airspace extending upward from 700 feet above the surface within 10.5 miles north and 4.3 miles south of the Twin Falls VORTAC 086° radial extending 26.1 miles east, and within 4.3 miles each side of the VORTAC 156° radial extending from the VORTAC to 8.3 miles southeast of the VORTAC, and within 10.3 miles north and 7.3 miles south of the VORTAC 281° radial extending 20 miles west; that airspace extending upward from 1,200 feet above the surface bounded on the northeast by a line beginning at the intersection of long. 114°01′03″ W. and V-500, extending south along long. 114°01′03″ W., to V-269, southwest along V-269 to the 18.3-mile radius of the Twin Falls VORTAC, thence clockwise via the 18.3-mile radius to V-484, northwest along V-484 to the 14.4-mile radius of the Twin Falls VORTAC, thence clockwise along the 14.4-mile radius to V-293, southwest along V-293 to the intersection of V-293 and long. 115°00′00″ W., thence north along long. 115°00′00″ W. to a point 7.9 miles southwest of V-253, thence northwest and parallel to V-253 for 25.9 miles, thence to the intersection of V-4, V-253, and V-330, east along V-330 to V-293, north along V-293 to V-500, then to the point of beginning; excluding that airspace within Federal airways.

* * * * *

Issued in Seattle, Washington, on June 26, 2009.
H. Steve Karnes,
Acting Manager, Operations Support Group, Western Service Center.

[FR Doc. E9-15873 Filed 7-6-09; 8:45 am]

BILLING CODE 4910-13-P